ENVIRONMENTAL PROTECTION AGENCY

[FRL-9926-39-OEI; EPA-HQ-OEI-2014-0465]

Establishment of a New System of Records Notice for the Superfund Enterprise Management System

AGENCY: Environmental Protection Agency (EPA).

ACTION: Notice.

SUMMARY: The U.S. Environmental Protections Agency's (EPA) Office of Solid Waste and Emergency Response, Office of Superfund Remediation and Technology Innovation (OSRTI), is giving notice that it proposes to create a new system of records pursuant to the provisions of the Privacy Act of 1974 (5 U.S.C. 552(a)). The EPA is implementing the Superfund Enterprise Management System (SEMS) system of records to provide project and program managers the ability to plan, manage, track and report on clean-up and enforcement activities taking place at Superfund sites. SEMS represents a joint development and ongoing collaboration between Superfund's Remedial, Removal, Federal Facilities, Enforcement, and Emergency Response programs.

DATES: Persons wishing to comment on this system of records notice must do so by May 27, 2015.

ADDRESSES: Submit your comments, identified by Docket ID No. EPA-HQ-OEI-2014-0465, by one of the following methods:

• www.regulations.gov: Follow the online instructions for submitting comments.

• Email: oei.docket@epa.gov.

• Fax: 202-566-1752.

• Mail: OEI Docket, Environmental Protection Agency, Mail Code: 2822T, 1200 Pennsylvania Ave. NW., Washington, DC 20460.

• Hand Delivery: OEI Docket, EPA/DC, WJC West Building, Room 3334, 1301 Constitution Ave. NW., Washington, DC. Such deliveries are only accepted during the Docket's normal hours of operation, and special arrangements should be made for deliveries of boxed information.

Instructions: Direct your comments to Docket ID No. EPA-HQ-OEI-2014-0465. The EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at the OEI Docket, EPA/DC, WJC West Building, Room 3334, 1301 Constitution Ave. NW., Washington, DC. The Public Reading Room is open from 8:30 a.m. to 4:30 p.m., Monday through Friday, excluding legal holidays. The telephone number for the Public Reading Room is (202) 566-1744, and the telephone number for the OEI Docket is (202) 566-1752.

FOR FURTHER INFORMATION CONTACT: Steven Wyman, Office of Solid Waste and Emergency Response (OSWER), Office of Superfund Remediation and Technology Information (OSRTT), Mail Code 5202P, 1200 Pennsylvania Ave. NW., Washington, DC 20460; telephone number (703) 603-8882.

SUPPLEMENTARY INFORMATION: General Information: EPA proposes to create a new system of records under the Privacy Act to integrate the legacy Superfund data collection, reporting and tracking modules into one single system. This single system will transform the Superfund program by improving operational effectiveness, reducing costs, streamlining business processes, and enhancing information management capabilities. The Superfund Enterprise Management System (SEMS) is an electronic repository of Superfund documents routinely used to disseminate records in response to Freedom of Information Act (FOIA) requests, establishment of Administrative Records (ARs), and litigation support. The SEMS database application supports the electronic capture, imaging, indexing and tracking of records which document investigation, cleanup, and enforcement activities at potential and existing hazardous waste sites, as mandated by CERCLA, as amended by the Superfund Amendments and Reauthorization Act (SARA) of 1986.

The types of information in the system include data and information that support program activities and decisions regarding the cleanup of specific Superfund sites. The system is intended to provide repositories of or access to a variety of programmatic information regarding site management, cost recovery, site financial resources, enforcement actions, and supporting documentation. The information is collected to ensure that supporting documentation for activities and decisions related to the Superfund site cleanup are well maintained and readily accessible as needed. The program utilizes this information in a variety of ways, including but not limited to research, enforcement, litigation support, responses to congressional and FOIA requests, public participation in the Superfund process, electronic archiving, cost recovery, disaster recovery, and support of the program and Agency missions.

Records protected under the Privacy Act are subject to Agency-wide security requirements governing all database systems at EPA. Privacy is maintained by limiting access to the database containing confidential business and personal information. Access to the database is limited to individuals designated as System Administrators, Remedial Project Managers (RPMs), Data Sponsors, On-Scene Coordinators (OSCs), Information Management Coordinators (IMCs), Budget Coordinators (BCs), Regional Attorneys, Regional Managers, Data Entry Support Staff, Support Contractors, and any other staff with assigned data management responsibilities.

Physical access to the building (EPA's National Computer Center (NCC) at Research Triangle Park, NC) is limited to EPA employees and their contractors with key cards. The building is equipped with cameras and sign-in sheets are utilized to monitor employee activities, traffic flow, and access to the computer room where the file servers and storage networks are located.

Dated: April 8, 2015.
Ann Dunkin,
Chief Information Officer.

EPA-69

System Name:

Superfund Enterprise Management System (SEMS)

System Location:

The system is hosted at the National Computer Center (NCC) located at Research Triangle Park (RTP), North Carolina. Address: 109 T.W. Alexander Drive, RTP NC 27711.

Categories of Individuals Covered by the System:

This system covers potentially responsible parties, EPA employees with responsibilities at specific Superfund sites, members of the public who have made public comments on program decisions or who have environmental sampling results reported for their personal business or residence, and contractor and analytical laboratory staff with responsibilities on specific Superfund sites.

Categories of Records Covered by the System:

Site location and basic descriptive information; contact information (e.g., name, address, telephone number, email address) for key individuals with responsibilities on specific Superfund sites; data generated by EPA in regards to site information and actions conducted at the site; planned and actual site financial and enforcement information; potentially responsible parties (PRP); negotiation data; litigation/referral data; lien data; alternative dispute resolution data; litigation history; correspondence tracking; community involvement data (i.e., location, contact data, technical assistance grant data); and medical information pertaining to environmental sampling results or public complaints.

Authority for Maintenance of the System:

42 U.S.C. Chapter 103; 40 CFR 300

Purpose(s):

The purpose of SEMS is to provide project and program managers with data and information needed to plan, manage, track and report on cleanup and enforcement activities taking place at Superfund sites. SEMS is an electronic repository of Superfund documents and data used to disseminate records in response to FOIA and other external requests, and in support of litigation, investigation, cleanup, program planning, and enforcement activities. SEMS tracks activities at each Superfund site which include removal, risk characterization, remedy selection, post construction, enforcement activities, financial resources, and community involvement.

Routine Uses of Records Maintained in the System, Including Categories of Users, and Purposes of Such Uses:

General Routine Uses A, E, F, G, H, K and L apply to this system.

Policies and Practices for Storing, Retrieving, Accessing, Retaining, and Disposing of Records in the System:

• Storage: Records will be stored electronically in an Agency-approved database (Oracle) and managed by system developers and administrators, along with EPA Office of Superfund Remediation and Technology Information (OSRTI) personnel. Incremental system backups are performed nightly and monthly. Actual files are stored in a Windows file server.

• Retrievability: Records can be retrieved by Site Name, Site ID Number, Author, Addressee, Document Title, Document Date, and Document ID Number.

• Safeguards: The following safeguards are in place:

(a) Information is maintained in a secure username/password protected environment. Permission-level assignments allow users access only to those functions for which they are authorized. Access to all information and hardware is maintained in a secure, access controlled facility at the NCC.

(b) The system has a single point of access via a front-end Portal. All users are required to complete a new user form (signed by their supervisor) and take online security training before they are provided with access.

(c) All authorized users of the SEMS application are required to take an annual security training identifying the user's role and responsibilities for protecting the Agency's information resources, as well as, consequences for not adhering to the policy.

(d) Audit logs are reviewed on a monthly basis to identify system access outside of normal business hours, anomalous user accounts or server names, or login failures.

(e) No external access to SEMS is provided.

• Retention and Disposal: Records stored in this system are subject to record schedule 0755, which is still being finalized.

System Manager(s) and Address:

Steven Wyman, Office of Solid Waste and Emergency Response (OSWER), Office of Superfund Remediation and Technology Information (OSRTI), Mail Code 5202P, 1200 Pennsylvania Ave. NW., Washington, DC 20460; telephone number 703-603-8882.

Notification Procedure:

Any individual who wants to know whether this system of records contains a record about him or her, who wants access to his or her record, or who wants to contest the contents of a record, should make a written request to the EPA FOIA Office, Attn: Privacy Act Officer, MC 2822D, 1200 Pennsylvania Avenue NW., Washington, DC 20460.

Record Access Procedure:

Request for access must be made in accordance with the procedures described in EPA's Privacy Act regulations at 40 CFR part 16. Requesters will be required to provide adequate identification, such as driver's license, employee identification card, or other identifying document. Additional identification procedures may be required in some instances.

Contesting Record Procedure:

Requests for correction or amendment must identify the record to be changed and the corrective action sought. Complete EPA Privacy Act procedures are described in EPA's Privacy Act regulations at 40 CFR part 16.

Record Source Categories:

Information captured in SEMS is derived from existing programmatic records, EPA employees, contractors, civil investigators and attorneys, analytical laboratories, the public and State cleanup programs.

System Exempted from Certain Provisions of the Act:

None.

[FR Doc. 2015-08926 Filed 4-16-15; 8:45 am]

BILLING CODE 6560-50-P